DEPARTMENT OF THE INTERIOR

Notice of Availability

AGENCY: National Park Service, Department of Interior.

ACTION: Notice of availability of a Supplemental Draft Environmental Impact Statement for the Chattahoochee River National Recreation Area General Management Plan.

SUMMARY: Pursuant to 42 U.S.C. 4332(2)(C) of the National Environmental Policy Act of 1969 and National Park Service (NPS) policy in Director's Order Number 2 (Park Planning) and Director's Order Number 12 (Conservation Planning, Environmental Impact Analysis, and Decision-making) the NPS announces the availability of a Supplemental Draft Environmental Impact Statement/General Management Plan (SDEIS/GMP) for the Chattahoochee River National Recreation Area (CRNRA) in the Atlanta, Georgia metropolitan area.

The document provides a framework for management, use, and development options for the CRNRA by the NPS for the next 15 to 20 years. The document describes six management alternatives for consideration, including a no-action alternative that continues current management policies, and analyzes the environmental impacts of those alternatives. The CRNRA includes a maximum of 10,000 acres of land in 16 units distributed along a 48-mile corridor between Peachtree Creek, Atlanta, and Buford Dam. The CRNRA is linear corridor surrounded by rapidly developing urban and suburban areas.

DATES: Written comments regarding the SDEIS/GMP must be post marked no later than 60 days from the Environmental Protection Agency's publication of its Notice of Availability in the Federal Register.

ADDRESSES: Written comments should be addressed to Dan Brown, Superintendent Chattahoochee River National Recreation Area, 1978 Island Ford Parkway, Atlanta, Georgia, 30350-3400. Comments may also be submitted through the NPS Planning Environment and Public Comment (PEPC) Web site: http://parkplanning.nps.gov. Copies of the SDEIS are available by contacting the Park Superintendent. An electronic copy of the SDEIS is available on the Internet at http://parkplanning.nps.gov/projectHome.cfm?parkId=364&projectId=11174. Before including your address, phone number, e-mail address, or other personal identifying information in your comment, you should be aware that your entire comment, including your personal identifying information, may be made publicly available at any time. While you can ask us in your comment to withhold your personal identifying information from public review, we cannot guarantee that we will be able to do so.

SUPPLEMENTARY INFORMATION: On July 30, 2004, the NPS issued a Draft GMP/EIS for the CRNRA. Many reviewers objected to some of the provisions of the alternative management strategies that were proposed in the draft plan. In consultation with the Georgia Department of Natural Resources the NPS made major revisions to the plan document including the development of two new alternatives. Subsequently, the NPS held public, stakeholder, and consulting party meetings to gather advice and feedback on the proposed new alternatives for the future management of the CRNRA. The input from the meetings assisted the NPS in developing these new alternatives for managing the cultural and natural resources. The SDEIS/GMP provides a discussion and environmental analysis of the two new alternatives together with the original alternatives.

The NPS has selected a new preferred alternative for the supplemental draft that has been designated as Alternative F. Implementation of Alternative F would increase the opportunities for the NPS to expand use to local visitors and increase connectivity to neighboring communities. It would provide diverse opportunities for recreational use and different types of trail linkages to city and county parks. It would also eliminate features of the original draft GMP/EIS that received broad public objections following its release.

Authority: The authority for publishing this notice is contained in 40 CFR 1506.6.

FOR FURTHER INFORMATION CONTACT: Dan Brown at 678-538-1211 or David Libman, (404) 562-3124, extension 685.

The responsible official for this EIS is the Regional Director, Southeast Region, National Park Service, 100 Alabama Street, SW., 1924 Building, Atlanta, Georgia 30303.

Dated: June 18, 2008.
David Vela,
Regional Director, Southeast Region.

[FR Doc. E8-21911 Filed 9-18-08; 8:45 am]

BILLING CODE 4310-PU-P